DEPARTMENT OF THE INTERIOR

National Park Service

Gettysburg National Military Park Advisory Commission

AGENCY: National Park Service, Interior.

ACTION: Notice of two meetings to be held on June 17, 2004 and October 21, 2004.

SUMMARY: This notices sets forth the dates of June 17, 2004 and October 21, 2004 of the Gettysburg National Military Park Advisory Commission.

Dates: The public meetings will be held on June 17, 2004 and October 21, 2004 from 7 p.m. to 9 p.m.

Location: The meeting will be held at the Cyclorama Auditorium, 125 Taneytown Road, Gettysburg, Pennsylvania 17325.

Agenda: The June 19, 2004 and October 21, 2004 meetings will consist of The Sub-Committee Reports from the Historical, Executive, and Interpretive Committees; Federal Consistency Reports Within the Gettysburg Battlefield Historic District; Operational Updates on Park Activities, which consists of an update on the Gettysburg National Battlefield Museum Foundation and National Park Service activities related to the new Visitor Center/Museum Complex, updates on the Wills House and the Train Station; Transportation which consists of the National Park Service and the Gettysburg Borough working on the Shuttle System; Update on Land Acquisition within the park boundary or in the historic District; and the Citizens Open Forum where the public can make Comments and ask questions on any park activity.

FOR FURTHER INFORMATION CONTACT: John A. Latschar, Superintendent, Gettysburg National Military Park, 97 Taneytown Road, Gettysburg, Pennsylvania 17325.

SUPPLEMENTARY INFORMATION: The meeting will be open to the public. Any member of the public may file with the Commission a written statement concerning agenda items. The statement should be Addressed to the Gettysburg National Military Park Advisory Commission, 97 Taneytown Road, Gettysburg, Pennsylvania 17325.

Dated: April 26, 2004.
John A. Latschar,
Superintendent, Gettysburg NMP/Eisenhower NHS.

[FR Doc. 04-11715 Filed 5-24-04; 8:45 am]

BILLING CODE 4312-52-P